FEDERAL COMMUNICATIONS COMMISSION

Notice of Public Information Collection(s) Being Reviewed by the Federal Communications Commission

August 7, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 18, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0307.

Title: Amendment of Part 90 of the Commission's Rules to Facilitate Development of SMR Systems in the 800 MHz Frequency Band.

Form No: N/A.

Type of Review: Revision of a currently approved collection.

Respondents: Individuals or households, business or other for-profit, not-for-profit institutions, and state, local, and tribal government.

Number of Respondents: 685.

Estimated Time Per Response: .5-5 hours.

Frequency of Response: On occasion reporting requirement.

Total Annual Burden: 864 hours.

Total Annual Cost: $43,000.

Needs and Uses: The Commission adopted a Memorandum Opinion and Order (MO&O) on Remand. This action was taken pursuant to an order issued by the United States Court of Appeals for the District of Columbia in Fresno Mobile Radio, Inc., et al. v. Federal Communications Commission (“Fresno”), 165 F. 3d 965 (DC Cir. 1999), wherein the Court remanded for further consideration the Commission's prior decision maintaining the requirement that incumbent wide-area Specialized Mobile Radio (SMR) licensees, licensees who had received “extended implementation” authorizations, must construct and operate all sites and frequencies by the construction deadline. Upon further reconsideration, the Commission allowed incumbent wide-area 800 MHz SMR licensees who were within their construction periods at the time Fresno was decided, to satisfy construction requirements similar to those given to Economic Area (EA) licensees in the 800 MHz band, and required that they may choose to apply the existing site-by-site, frequency-by-frequency construction requirements, or the EA construction requirements. Those who choose the latter were required to certify in a filing with the Commission their compliance with the requirements within the later of 15 days from their applicable construction benchmarks or 60 days from the effective date of the MO&O on Remand. The information will be used by the Commission for the following purposes: (1) To update the Commission's licensing database and thereby facilitate the successful coexistence of EA licensees and incumbents in the 800 MHz SMR band; and (2) to determine whether an applicant is eligible for special provisions for small businesses provided for applicants in the 800 MHz service.

Federal Communications Commission.
Marlene H. Dortch,
Secretary.

[FR Doc. 03-21165 Filed 8-18-03; 8:45 am]

BILLING CODE 6712-01-P